DEPARTMENT OF HOMELAND SECURITY

Federal Emergency Management Agency

44 CFR Part 67

Final Flood Elevation Determinations

AGENCY: Federal Emergency Management Agency, Emergency Preparedness and Response Directorate, Department of Homeland Security.

ACTION: Final rule.

SUMMARY: Base (1-percent-annual-chance) Flood Elevations and modified Base Flood Elevations (BFEs) are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final base flood elevations for each community are available for inspection at the office of the Chief Executive Officer of each community. The respective addresses are listed in the table below.

FOR FURTHER INFORMATION CONTACT: Mary Jean Pajak, Federal Emergency Management Agency, 500 C Street, SW., Washington, DC 20472, (202) 646-2831.

SUPPLEMENTARY INFORMATION: The Federal Emergency Management Agency makes the final determinations listed below of BFEs and modified BFEs for each community listed.

These modified elevations have been published in newspapers of local circulation and ninety (90) days have elapsed since that publication. The Mitigation Division Director of the Emergency Preparedness and Response Directorate has resolved any appeals resulting from this notification.

This final rule is issued in accordance with section 110 of the Flood Disaster Protection Act of 1973, 42 U.S.C. 4105, and 44 CFR part 67.

The Federal Emergency Management Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR Part 10, Environmental Consideration. No environmental impact assessment has been prepared.

Regulatory Flexibility Act

The Mitigation Division Director of the Emergency Preparedness and Response Directorate certifies that this rule is exempt from the requirements of the Regulatory Flexibility Act because modified base flood elevations are required by the Flood Disaster Protection Act of 1973, 42 U.S.C. 4105, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 67

Administrative practice and procedure, Flood insurance, Reporting and record keeping requirements.

Accordingly, 44 CFR Part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location of referenced elevation | *Elevation in feet (NGVD) Modified | Communities affected
Joe's Lake: Entire shoreline | *952 | FEMA Docket No. 7625. City of Cambridge, OK. Isanti County, OK. (Unincorporated Areas).
Long Lake: Entire shoreline | *919 | Isanti County, OK. (Unincorporated Areas).
*National Geodetic Vertical Datum
Addresses:
Unincorporated Areas of Isanti County, Minnesota:
Maps are available for inspection at Isanti County Courthouse, 555 18th Avenue SW, Cambridge, Minnesota.
City of Cambridge:
Maps are available for inspection at City Hall, 626 N. Main Street, Cambridge, Minnesota.
Grand Lake O'the Cherokees Entire shoreline | *756 | (FEMA Docket No. 7619). Town of Grand Lake Towne.
Unnamed Tributary to Spavinaw Creek approximately 750 feet upstream of the confluence with Spavinaw Creek | *637 | Town of Spavinaw, OK.
Neosho River/Lake Hudson Entire shoreline | *639 | Town of Strang, OK.
*National Geodetic Vertical Datum
Addresses:
Town of Grand Lake Towne:
Maps are available for inspection at the Town Hall, Grand Lake Towne, Oklahoma.
Town of Spavinaw:
Maps are available for inspection at the Town Hall, 215 Lake Avenue, Spavinaw, Oklahoma.
Town of Strang:
Maps are available for inspection at the Town Hall, Strang, Oklahoma.
Big Cabin Creek: Just upstream of the confluence with Neosho River | *639 | (FEMA Docket No. 7611). Mayes County, OK. (Unincorporated Areas).
Big Cabin Creek: Approximately 550 feet upstream of Abandoned County Road | *642 | (FEMA Docket No. 7611). Mayes County, OK. (Unincorporated Areas).
Lake Hudson: Entire shoreline | *637 | Mayes County, OK. (Unincorporated Areas). Town of Salina, OK.
Neosho River:
Approximately 2,500 feet downstream of Strang Road | *637 | Mayes County, OK. (Unincorporated Areas). Town of Langley, OK.
Just downstream of Pensacola Dam | *649 | Town of Disney, OK.
Summerfield Creek:
At the confluence with Neosho River | *648 | Mayes County, OK. (Unincorporated Areas).
Approximately 6,200 feet upstream of N4475 Road | *658 | Town of Disney, OK.
Salt Branch Creek:
Just upstream of Maple Street | *611 | Mayes County, OK. (Unincorporated Areas).
Approximately 100 feet downstream of N4330 Road | *633 | City of Pryor Creek, OK.
*National Geodetic Vertical Datum
Addresses:
Unincorporated Areas of Mayes County, Oklahoma:
Maps are available for inspection at the Mayes County Courthouse, Pryor Creek, Oklahoma.
City of Pryor Creek:
Maps are available for inspection at the City Hall, 6 North Adair Street, Pryor Creek, Oklahoma.
Town of Disney:
Maps are available for inspection at the Town Hall, 101 Main Street, Disney, Oklahoma.
Town of Langley:
Maps are available for inspection at City Hall, 3rd Street and Osage Avenue, Langley, Oklahoma.
Town of Salina:
Maps are available for inspection at the Town Hall, Salina, Oklahoma.

(Catalog of Federal Domestic Assistance No. 83.100, “Flood Insurance.”)

Dated: July 15, 2003.
Anthony S. Lowe,
Mitigation Division Director, Emergency Preparedness and Response Directorate.

[FR Doc. 03-19246 Filed 7-28-03; 8:45 am]

BILLING CODE 6718-04-U